DEPARTMENT OF TRANSPORTATION

Federal Aviation Administration

14 CFR Part 39

[Docket No. FAA-2011-0085; Directorate Identifier 2000-NE-19-AD]

RIN 2120-AA64

Airworthiness Directives; Teledyne Continental Motors (TCM) and Rolls-Royce Motors Ltd. (R-RM) Series Reciprocating Engines

AGENCY: Federal Aviation Administration (FAA), DOT.

ACTION: Notice of proposed rulemaking (NPRM).

SUMMARY: We propose to supersede an existing airworthiness directive (AD) that applies to certain TCM and R-RM series reciprocating engines. The existing AD currently requires replacement of certain magnetos if they fall within the specified serial number (S/N) range, inspection of the removed magneto to verify that the stop pin is still in place, and, if the stop pin is not in place, inspection of the engine gear train, crankcase, and accessory case. Since we issued that AD, we became aware of an error in the previous AD applicability in the range of magneto S/Ns affected, and of the need to include certain engines made by R-RM, under license of TCM. This proposed AD would correct the range of S/Ns affected, require the same replacement and inspections, and would add R-RM C-125, C-145, O-300, IO-360, TSIO-360, and LTSIO-520-AE series reciprocating engines to the applicability. We are proposing this AD to correct the unsafe condition on these products.

DATES: We must receive comments on this proposed AD by August 12, 2011.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact Teledyne Continental Motors, Inc., PO Box 90, Mobile, AL 36601; phone (251) 438-3411, or go to: http://tcmlink.com/servicebulletins.cfm. You may review copies of the referenced service information at the FAA, New England Region, 12 New England Executive Park, Burlington, MA. For information on the availability of this material at the FAA, call (781) 238-7125.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Neil Duggan, Aerospace Engineer, Propulsion, Atlanta Aircraft Certification Office, FAA, Small Airplane Directorate; 1701 Columbia Avenue, College Park, Georgia, 30337; phone: (404) 474-5576; fax: (404) 474-5606; e-mail: neil.duggan@faa.gov.

SUPPLEMENTARY INFORMATION:

Comments Invited

We invite you to send any written relevant data, views, or arguments about this proposed AD. Send your comments to an address listed under the ADDRESSES section. Include “Docket No. FAA-2011-0085; Directorate Identifier 2000-NE-19-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On June 17, 2002, we issued AD 2002-13-04, Amendment 39-12792 (FR 67 43230, June 27, 2002), for TCM C-125, C-145, O-300, IO-360, TSIO-360, and LTSIO-520-AE series reciprocating engines. That AD requires, within 10 flight hours after the effective date of that AD, replacement of certain magnetos if they fall within the specified S/N range, inspection of the removed magneto to verify that the stop pin is still in place, and, if the stop pin is not in place, inspection of the engine gear train, crankcase, and accessory case. That AD resulted from reports of engine failures on certain TCM reciprocating engines. We issued that AD to prevent engine failure and loss of control of the airplane due to migration of the magneto impulse coupling stop pin out of the magneto frame and into the gear train of the engine.

Actions Since Existing AD Was Issued

Since we issued AD 2002-13-04, we became aware of an error in the applicability paragraph of that AD, in the range of S/Ns affected. That AD applicability listed magneto S/Ns of 99110001 through 9912999 inclusive. This proposed AD supersedure would correct the applicability to state magneto S/Ns of 99110001 through 99129999 inclusive, and add R-RM C-125, C-145, O-300, IO-360, TSIO-360, and LTSIO-520-AE series reciprocating engines built under license of TCM, to the applicability.

FAA's Determination

We are proposing this AD because we evaluated all the relevant information and determined the unsafe condition described previously is likely to exist or develop in other products of the same type design.

Proposed AD Requirements

This proposed AD would retain all requirements of AD 2002-13-04. This proposed AD would also correct the range of S/Ns affected, and would add R-RM C-125, C-145, O-300, IO-360, TSIO-360, and LTSIO-520-AE series reciprocating engines to the applicability. Since AD 2002-13-04 was issued, the AD format has been revised, and certain paragraphs have been rearranged. As a result, the corresponding paragraph identifiers have changed in this proposed AD, as listed in the following table:

Revised Paragraph Identifiers
Requirement in AD 2002-13-04 | Corresponding requirement in this proposed AD
paragraph (a) | paragraph (f)
paragraph (b) | paragraph (g)
paragraph (c) | paragraph (h)

Costs of Compliance

We estimate that this proposed AD would affect 100 R-RM C-125, C-145, O-300, IO-360, TSIO-360, and LTSIO-520-AE series reciprocating engines installed on airplanes of U.S. registry. We also estimate that it would take about 2 work-hours per engine to perform the inspections, and that the average labor rate is $85 per work-hour. Based on these figures, we estimate the total cost of the proposed AD to U.S. operators to be $17,000. Our cost estimate is exclusive of possible warranty coverage.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2002-13-04, Amendment 39-12792 (67 FR 43230, June 27, 2002), and adding the following new AD:

Teledyne Continental Motors (TCM) and Rolls-Royce Motors Ltd. (R-RM) Series Reciprocating Engines: Docket No. FAA-2011-0085; Directorate Identifier 2000-NE-19-AD.

(a) Comments Due Date

The FAA must receive comments on this AD action by August 12, 2011.

(b) Affected ADs

This AD supersedes AD 2002-13-04, Amendment 39-12792.

(c) Applicability

This AD applies to TCM and R-RM C-125, C-145, O-300, IO-360, TSIO-360, and LTSIO-520-AE series reciprocating engines with Champion Aerospace (formerly Unison Industries) Slick Magnetos, models 6314, 6324, and 6364, with magneto serial numbers (S/Ns) of 99110001 through 99129999 inclusive.

(d) Unsafe Condition

This AD was prompted by an error in the previous AD applicability in the range of magneto S/Ns affected, and by the need to include certain engines made by R-RM, under license of TCM. We are issuing this AD to prevent engine failure and loss of control of the airplane due to migration of the magneto impulse coupling stop pin out of the magneto frame and into the gear train of the engine.

(e) Compliance

Comply with this AD within 10 flight hours after the effective date of this AD, unless already done.

(f) Replacement of Magneto

Replace any magneto that has a S/N of 99110001 through 99129999, inclusive, with a magneto that does not have a serial number in that range. If magneto is not in this S/N range, no further action is required by this AD.

(g) Inspections

Inspect each removed magneto to verify that the impulse coupling stop pin is present. If the pin is missing, do the following:

(1) For C-125, C-145, O-300, IO-360, and TSIO-360 series engines, do the following:

(i) Remove magnetos, alternator or generator, and starter adapter from the accessory case.

(ii) Remove the accessory case from the crankcase and oil sump.

(iii) Visually inspect the entire engine gear train for damaged or broken gears and gear teeth.

(iv) Inspect visible portions of the engine crankcase and accessory case for damage due to the stop pin becoming lodged between the engine gear train and the crankcase or accessory case.

(v) If the accessory case is damaged, repair or replace the accessory case.

(vi) If the engine crankcase is damaged, disassemble the engine, and repair or replace the crankcase.

(vii) Inspect the oil pump drive gear teeth and inner cam gear teeth for damage. Replace any engine drive train component that has been damaged.

(viii) Replace any damaged gear, and magnaflux the mating gears using the applicable engine overhaul manual.

(2) For LTSIO-520-AE series engines, do the following:

(i) Remove the starter adapter, fuel pump, vacuum pumps, accessory drive pads, and both magnetos.

(ii) Visually inspect the entire engine gear train for damaged or broken gears and gear teeth.

(iii) If any damage has occurred, remove the engine from the airplane, disassemble the engine, and inspect it for damage. If any damage is found, repair as necessary.

(iv) Replace any damaged gear, and magnaflux the mating gears using the applicable engine overhaul manual.

(v) Inspect the interior portions of the engine crankcase for damage due to the stop pin becoming lodged between the gear train and the crankcase. If the crankcase is damaged, repair or replace the crankcase.

(h) Installation Prohibition

After the effective date of this AD, do not install any Champion Aerospace (formerly Unison Industries) Slick magnetos, model 6314, 6324, or 6364 that have a S/N of 99110001 through 99129999 inclusive, on any engine.

(i) Alternative Methods of Compliance

The Manager, Atlanta Aircraft Certification Office, FAA, has the authority to approve AMOCs for this AD, if requested using the procedures found in 14 CFR 39.19.

(j) Related Information

(1) A cross-reference for part numbers (P/Ns) for Champion Aerospace (formerly Unison Industries) Slick magneto model 6314 (TCM P/N 653271), model 6324 (TCM P/N 653292), and model 6364 (TCM P/N 649696) can be found in TCM Mandatory Service Bulletin MSB00-6D, dated November 19, 2010.

(2) For more information about this AD, contact Neil Duggan, Aerospace Engineer, Propulsion, Atlanta Aircraft Certification Office, FAA, Small Airplane Directorate; 1701 Columbia Avenue, College Park, Georgia, 30337; phone: (404) 474-5576; fax: (404) 474-5606; e-mail: neil.duggan@faa.gov.

Issued in Burlington, Massachusetts, on June 20, 2011.
Peter A. White,
Acting Manager, Engine & Propeller Directorate, Aircraft Certification Service.

[FR Doc. 2011-16088 Filed 6-27-11; 8:45 am]

BILLING CODE 4910-13-P